ENVIRONMENTAL PROTECTION AGENCY

[EPA-HQ-OPP-2008-0536; FRL-8377-5]

Metam Sodium, Metam Potassium and Chloropicrin; Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective February 17, 2009, unless the Agency receives a written withdrawal request on or before February 17, 2009. The Agency will consider a withdrawal request postmarked no later than February 17, 2009.

Users of these products who desire continued use on crops or sites being deleted should contact the applicable registrant on or before February 17, 2009.

ADDRESSES: Submit your withdrawal request, identified by docket identification (ID) and chemical name for the pesticide of interest, as shown in the table below, by one of the following methods:

•Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

FOR FURTHER INFORMATION CONTACT: For metam sodium, metam potassium and MITC, (EPA-HQ-OPP-2005-0125) contact Heather Garvie, Antimicrobials Division (7510P), Office of Pesticide Programs, Environmental Protection Agency, 1200 Pennsylvania Ave., NW., Washington, DC 20460-0001; telephone number: (703) 308-0034; e-mail address: garvie.heather@epa.gov.

For chloropicrin, (EPA-HQ-OPP-2007-0350) contact Andrea Carone, Special Review and Reregistration Division (7508P), Office of Pesticide Programs, Environmental Protection Agency, 1200 Pennsylvania Ave., NW., Washington, DC 20460-0001; telephone number: (703) 308-0122; e-mail address: carone.andrea@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket ID number EPA-HQ-OPP-2005-0125 for metam sodium, metam potassium and MITC; and EPA-HQ-OPP-2007-0350 for chloropicrin. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces receipt by the Agency of applications from registrants to delete uses in certain pesticide registrations. These registrations are listed in Table 1 of this unit by registration number, product name, active ingredient, and specific uses deleted:

Table 1.—Registrations with Requests for Amendments to Delete Uses in Certain Pesticide Registrations
EPA Registration No. | Product Name | Active Ingredient | Delete from Label
1448-361 | Busan 1236 | Metam sodium | Organic sludge fumigation
1448-371 | Busan 1020L | Metam sodium | Leather and hide processing
1448-93 | Busan 1016 | Metam sodium | Cane and beet sugar mills
1448-52 | Busan 40 | Metam potassium | Water-based drilling, completion and packer fluids; leather and hide processing (this use deletion is not inclusive of the tanning drum leather use); preservation of protective colloids, emulsion resins and water-thinned paints; cutting fluids (metalworking fluids)
1448-47 | Busan 52 | Metam potassium | Water-based drilling, completion and packer fluids; leather and hide processing (this use deletion is not inclusive of the tanning drum leather use); preservation of protective colloids, emulsion resins and water- thinned paints; cutting fluids (metalworking fluids)
1448-74 | PNMDC | Metam potassium | Leather and hide processing (this use deletion is not inclusive of the tanning drum leather use); preservation of protective colloids, emulsion resins and water-thinned paints; cutting fluids (metalworking fluids); cane and beet sugar mills; petroleum secondary recovery operations; once-through cooling water applications
1448-53 | Busan 881 | Metam Potassium | Cane and beet sugar mills; petroleum secondary recovery operations; once-through cooling water applications
1448-382 | NABE-M | Metam potassium | Cane and beet sugar mills; petroleum secondary recovery operations; once-through cooling water applications
8536-2 | Chloropicrin 100 Fumigant | Chloropicrin | Treatment of wood, timbers, poles, piles, and glue-laminated beams; fumigation of enclosed spaces
58266-2 | Tri-Clor Fumigant | Chloropicrin | Treatment of wood, timbers, poles, piles, and glue-laminated beams; fumigation of enclosed spaces
66330-47 | NUTRAPIC | Chloropicrin | Fumigation of enclosed spaces
5785-17 | Chloro-O-Pic | Chloropicrin | Fumigation of enclosed spaces

Users of these products who desire continued use on crops or sites being deleted should contact the applicable registrant before February 17, 2009 to discuss withdrawal of the application for amendment. This 180-day period will also permit interested members of the public to intercede with registrants prior to the Agency's approval of the deletion.

Table 2 of this unit includes the names and addresses of record for all registrants of the products listed in Table 1 of this unit, in sequence by EPA company number.

Table 2.—Registrants Requesting Amendments to Delete Uses in Certain Pesticide Registrations
EPA Company Number | Company Name and Address
1448 | Buckman Laboratories 1256 North McLean Blvd. Memphis, TN 38108-1241 Tel: 901-278-0330
8536 | Soil Chemicals Corporation 8770 Highway 25 P.O. Box 782 Hollister, CA 95024-0782 Tel: 831-637-1992
58266 | Shadow Mountain Products Corporation 8770 Highway 25 P.O. Box 1327 Hollister, CA 95024-1327 Tel: 831-637-0195
66330 | Arysta Lifescience North America Corporation 15401 Weston Parkway, Suite 150 Cary, North Carolina 27513 Tel: 919-678-2194
5785 | Great Lakes Chemical a Chemtura Co. P.O. Box 2200 West Lafayette, Indiana 47996-2200 Tel: 765-497-6391

III. What is the Agency's Authority for Taking this Action?

Section 6(f)(1) of FIFRA provides that a registrant of a pesticide product may at any time request that any of its pesticide registrations be amended to delete one or more uses. The FIFRA further provides that, before acting on the request, EPA must publish a notice of receipt of any such request in the Federal Register. Thereafter, the Administrator may approve such a request.

IV. Procedures for Withdrawal of Request

Registrants who choose to withdraw a request for use deletion must submit the withdrawal in writing to Heather Garvie (for metam sodium, metam potassium and MITC) or Andrea Carone (for chloropicrin) using the methods in ADDRESSES. The Agency will consider written withdrawal requests postmarked no later than February 17, 2009.

V. Provisions for Disposition of Existing Stocks

The Agency has authorized the registrants to sell or distribute product under the previously approved labeling for a period of 18 months after approval of the revision, unless other restrictions have been imposed, as in special review actions.

List of Subjects

Environmental protection, Pesticides and pests.

Dated: August 13, 2008.
Debra Edwards,
Director, Office of Pesticide Programs.

[FR Doc. E8-19305 Filed 8-19-08; 8:45 am]

BILLING CODE 6560-50-S